DEPARTMENT OF ENERGY

Federal Energy Regulatory Commission

[Docket No. RP03-471-001]

MIGC, Inc.; Notice of Compliance Filing

July 10, 2003.

Take notice that on July 7, 2003, MIGC, Inc. (MIGC) tendered for filing as part of its FERC Gas Tariff, First Revised Volume No.1, the following tariff sheets, to become effective July 1, 2003.

Sub Second Revised Sheet No. 49A

Sub Seventh Revised Sheet No. 52

Sub Fourth Revised Sheet No. 84

First Rev Fourth Revised Sheet No. 90A

First Revised Sheet No. 90B

MIGC asserts that the purpose of this filing is to comply with the Commission's Letter Order issued June 30, 2003, in Docket No. RP03-471-000, requiring MIGC to revise certain tariffs which were originally filed in MIGC's Order No. 587-R compliance filing in RM96-1-024.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 21, 2003.

Magalie R. Salas,
Secretary.

[FR Doc. 03-18039 Filed 7-16-03; 8:45 am]

BILLING CODE 6717-01-P